DEPARTMENT OF THE INTERIOR

National Park Service

[NPS-WASO-NAGPRA-11193; 2200-1100-665]

Notice of Inventory Completion: San Francisco State University, Department of Anthropology, San Francisco, CA; Correction

AGENCY: National Park Service, Interior.

ACTION: Notice; correction.

Notice is here given in accordance with the Native American Graves Protection and Repatriation Act (NAGPRA), 25 U.S.C. 3003, of the completion of an inventory of human remains and associated funerary objects in the possession of the San Francisco State University, NAGPRA Program (formerly in the Department of Anthropology). The human remains and associated funerary objects were removed from Marin County, CA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

This notice corrects the minimum number of individuals and number of associated funerary objects published in a Notice of Inventory Completion in the Federal Register (73 FR 30156-30158, May 23, 2008).

In the Federal Register (73 FR 30156-30158, May 23, 2008), paragraph four is corrected by substituting the following paragraph:

From 1980 to 1985, human remains representing a minimum of 11 individuals were removed from CA-MRN-17, De Silva Island, Richardson Bay, Marin County, CA, by San Francisco State University staff under the direction of Gary Pahl. Materials from the excavations were jointly curated by San Francisco State University and Sonoma State University Anthropological Studies Center until 1998, when all excavated materials from site CA-MRN-17 were transferred to San Francisco State University. No known individuals were identified. The 175 associated funerary objects are 21 obsidian flaked stone tools, 9 pieces of obsidian debitage, 5 chert flaked stone tools, 27 pieces of chert debitage, 15 ground stone tools, 75 bone tools, 1 basalt flake, 1 granite tool, 1 schist tool, 2 steatite ear plugs, 1 ceramic fragment, 1 bone bead, 1 olivella bead, 1 individual and 1 lot of abalone pendants, 1 clam shell fragment, 2 charmstones, 2 quartz crystals, 1 cupule rock, 2 pieces of ochre, and 6 lots of carbon samples.

In the Federal Register (73 FR 30156-30158, May 23, 2008), paragraph five, sentence two is corrected by substituting the following sentence:

The 11 individuals described above were found in four burials along with one set of remains with no provenience.

In the Federal Register (73 FR 30156-30158, May 23, 2008), paragraph eight is corrected by substituting the following paragraph:

Between 1969 and 1971, human remains representing a minimum of 19 individuals were removed from the Miller Creek Site (CA-MRN-138), Marin County, CA, by San Francisco State University staff under the direction of Charles Slaymaker and Michael Moratto. No known individuals were identified. The 247 associated funerary objects are 128 bone tools, 78 obsidian tools, 18 chert tools, 7 ground stone tools, 5 shell beads, 1 shell adornment, 2 stone adornments, 2 sting ray barbs, 1 shell tool, 4 lots of red ochre, and 1 glass object.

In the Federal Register (73 FR 30156-30158, May 23, 2008), paragraph 10, sentence one is corrected by substituting the following paragraph:

Between 1972 and 1975, human remains representing a minimum of two individuals were removed from the Pacheco Valle site (CA-MRN-152), Marin County, CA, during excavations conducted by the University of San Francisco, College of Marin, and Miwok Archaeological Preserve of Marin, CA, according to San Francisco State University Department of Anthropology records.

In the Federal Register (73 FR 30156-30158, May 23, 2008], paragraph 14 is corrected by substituting the following paragraph:

In 1968, human remains representing a minimum of three individuals were removed from the Pacific Telephone site (CA-MRN-168), Marin County, CA, by San Francisco State University staff under the direction of Charles Slaymaker. No known individuals were identified. The five associated funerary objects are 3 lots of botanical remains and 2 charmstones.

In the Federal Register (73 FR 30156-30158, May 23, 2008), paragraph 16 is corrected by substituting the following paragraph:

Between 1970 and 1972, human remains representing a minimum of 61 individuals were removed from the Ignacio site (CA-MRN-170), Marin County, CA, by San Francisco State University staff under the direction of Charles Slaymaker and Michael Moratto. No known individuals were identified. The 1,124 funerary objects are 932 olivella and clam shell beads, 1 steatite bead, 39 obsidian tools, 21 chert tools, 90 bone tools, 1 shell tool, 3 shell pendants, 3 stone pendants, 21 ground stone, 4 charmstones, 1 steatite ear plug, 1 bear claw, 1 piece of red ochre, 2 clay figurines, 1 mussel spoon, 1 pigment mortar, 1 baked clay object, and 1 bone artifact with red ochre.

In the Federal Register (73 FR 30156-30158, May 23, 2008), paragraph 22 is corrected by substituting the following paragraph:

Between 1961 and 1968, human remains representing a minimum of 27 individuals were removed from the Preston Point site (CA-MRN-396), Marin County, CA, by W. Beason, Sacramento State University; Ward Upson, Santa Rosa Junior College, Santa Rosa, CA; and Mrs. Agnes Gerkin of Sacramento, CA. The burials excavated by Ward Upson were curated at San Francisco State University, except for two bones which were curated at the Anthropological Studies Center, California State University, Sonoma, CA. The burials excavated by W. Beason and Mrs. Gerkin, along with the funerary objects excavated by Ward Upson, were curated at the Anthropological Studies Center, California State University, Sonoma, CA. Possession and control of all materials from site CA-MRN-396 at the Anthropological Studies Center was transferred to San Francisco State University in 1998. No known individuals were identified. The 785 funerary objects are 17 ground stone tools, 11 bone tools, 21 obsidian tools, 3 chert tools, 723 beads and bead fragments, 2 charmstone fragments, 4 steatite pendants and adornments, 1 hairpin, 1 smoking pipe fragment, 1 quartz crystal, and 1 bag of ochre and dirt.

In the Federal Register (73 FR 30156-30158, May 23, 2008), paragraph 29, sentences one and two are corrected by substituting the following sentences:

Officials of San Francisco State University have determined that, pursuant to 25 U.S.C. 3001 (9-10), the human remains described above represent the physical remains of 143 individuals of Native American ancestry. Officials of the San Francisco State University also have determined that, pursuant to 25 U.S.C. 3001 (3)(A), the 2,349 objects described above are reasonably believed to have been placed with or near individual human remains at the time of death or later as part of the death rite or ceremony.

Additional Requestors and Disposition

Representatives of any other Indian tribe that believes itself to be culturally affiliated with the human remains and associated funerary objects should contact Jeffrey Boland Fentress, San Francisco State University NAGPRA Program, c/o Department of Anthropology, San Francisco State University, 1600 Holloway Avenue, San Francisco, CA 94132, telephone (415) 338-3075, before October 31, 2012. Repatriation of the human remains and associated funerary objects to the Federated Indians of Graton Rancheria, California, may proceed after that date if no additional claimants come forward.

The San Francisco State University NAGPRA Program is responsible for notifying the Federated Indians of Graton Rancheria, California, that this notice has been published.

Dated: August 30, 2012.
Sherry Hutt,
Manager, National NAGPRA Program.

[FR Doc. 2012-24091 Filed 9-28-12; 8:45 am]

BILLING CODE 4312-50-P